DEPARTMENT OF DEFENSE

Department of the Army

Publication of Families First Business Rules

AGENCY: Department of the Army, DOD.

ACTION: Notice.

SUMMARY: The Military Surface Deployment and Distribution Command (SDDC), as the Department of Defense (DOD) Traffic Manager for the Household Goods and Personal Property Program, is announcing the publication of the Families First Business Rules for review and comment.

This announcement is being made to afford the public an opportunity to review and comment on the business rules changes before commencing Families First. The business rules will be posted to the SDDC Web site located at http://www.sddc.army.mil, under Families First. The site offers industry access to updates on the business rules and information on the various Phases of the program.

DATES: The business rules were released on April 21, 2005, and posted to the SDDC Web site on April 22, 2005. comments must be submitted on or before May 26, 2005.

ADDRESSES: Comments may be sent by e-mail to the following address: http://www.sddc.army.mil/frontDoor/0,1865,OID=4--7319-13197--13197--00.html or by courier to: Headquarters, Surface Deployment and Distribution Command, Attn: SDPP-PD, Room 10N35-29 (Judith Tarbox), Hoffman Building II, 200 Stovall Street, Alexandria, VA 22332-5000.

FOR FURTHER INFORMATION CONTACT: Ms. Judith Tarbox at (703) 428-3004 or e-mail at TarboxJudith@sddc.army.mil.

Regulation Flexibility Act

This action is not considered rule making within the meaning of Regulatory Flexibility Act, 5 USC 601-612.

Paperwork Reduction Act

The Paperwork Reduction Act, 44 USC 3051 et seq., does not apply because no information collection or record keeping requirements are imposed on contractors, offerors or member of the public.

Thomas G. Keller,
Col, USAF, DCS, Passenger and Personal Property.

[FR Doc. 05-8282 Filed 4-25-05; 8:45 am]

BILLING CODE 3710-08-M